DEPARTMENT OF ENERGY

Federal Energy Regulatory Commission

Combined Notice of Filings #1

October 17, 2006.

Take notice that the Commission received the following electric corporate filings:

Docket Numbers: EC07-3-000.

Applicants: Atlantic City Electric Company; RC Cape May Holdings, LLC.

Description: Atlantic City Electric Company and Cape May Holdings, LLC submit an application for authorization for disposition of an existing generation facility and related jurisdictional assets.

Filed Date: October 11, 2006.

Accession Number: 20061013-0132.

Comment Date: 5 p.m. Eastern Time on Wednesday, November 2, 2006.

Docket Numbers: EC07-4-000.

Applicants: Aquila, Inc.; MEP Pleasant Hill, LLC.

Description: Aquila Inc. and MEP Pleasant Hill, LLC submits an application for approval of the transfer of jurisdictional facilities and existing generation facilities under section 203 of the Federal Power Act.

Filed Date: October 12, 2006.

Accession Number: 20061016-0141.

Comment Date: 5 p.m. Eastern Time on Thursday, November 27, 2006.

Take notice that the Commission received the following electric rate filings.

Docket Numbers: ER98-1150-009.

Applicants: Tucson Electric Power Company.

Description: Tucson Electric Power Co clarifies certain facts related to the operation of and scheduling of power from the Luna Facility and to provide generation market power screen analyses.

Filed Date: October 12, 2006.

Accession Number: 20061016-0134.

Comment Date: 5 p.m. Eastern Time on Thursday, November 2, 2006.

Docket Numbers: ER00-3251-012; ER99-754-014; ER01-1919-009; ER01-513-016; ER01-513;017; ER01-513-018; ER01-513-019; ER99-2404-009.

Applicants: Exelon Generating Company, LLC; AmerGen Energy Company, LLC; Exelon Energy Company; Exelon West Medway, LLC; Exelon Wyman, LLC; Exelon New Boston, LLC; Exelon Framingham, LLC; Exelon New England Power Marketing, L.P.

Description: Exelon Generation Co et al submit a modification of their market-based tariffs to remove the market behavior rules and delete the Code of Conduct regarding Public Service Enterprise Group Incorporated.

Filed Date: October 13, 2006 and October 16, 2006.

Accession Number: 20061017-0030.

Comment Date: 5 p.m. Eastern Time on Friday, November 3, 2006.

Docket Numbers: ER01-313-004.

Applicants: California Independent System Operator Corporation

Description: California Independent System Operator Corp submits its compliance filing in accordance with Opinion 463-B of FERC's November 7, 2006 Order.

Filed Date: October 10, 2006.

Accession Number: 20061016-0068.

Comment Date: 5 p.m. Eastern Time on Tuesday, October 31, 2006.

Docket Numbers: ER03-742-001.

Applicants: RMKG, LLC.

Description: RMKG, LLC submits its First Revised Rate Schedule FERC 1 in order to correct the identification and numbering of the document to its September 5, 2006 filing of the triennial update market power analysis.

Filed Date: October 13, 2006.

Accession Number: 20061016-0069.

Comment Date: 5 p.m. Eastern Time on Friday, November 3, 2006.

Docket Numbers: ER03-821-001.

Applicants: One Nation Energy Solutions, LLC.

Description: One Nation Energy Solutions, LLC submits its Triennial Market Power Update.

Filed Date: October 12, 2006.

Accession Number: 20061013-0099.

Comment Date: 5 p.m. Eastern Time on Thursday, November 2, 2006.

Docket Numbers: ER05-1050-004.

Applicants: AmerGen Energy Company LLC.

Description: AmerGen Energy Company LLC submits its final compliance electric refund report.

Filed Date: October 4, 2006.

Accession Number: 20061003-5072.

Comment Date: 5 p.m. Eastern Time on Wednesday, October 25, 2006.

Docket Numbers: ER05-1235-003; ER06-847-002.

Applicants: MidAmerican Energy Company.

Description: MidAmerican Energy Co. submits a supplement to its October 2, 2006 compliance filing in accordance with FERC's September 1, 2006 Order.

Filed Date: October 10, 2006.

Accession Number: 20061013-0056.

Comment Date: 5 p.m. Eastern Time on Tuesday, October 31, 2006.

Docket Numbers: ER06-20-007.

Applicants: Louisville Gas & Electric Company.

Description: Louisville Gas & Electric Company and Kentucky Utilities Company submit a final Withdrawal Fee Calculation provided by Midwest Independent Transmission Operator, Inc. effective September 1, 2006.

Filed Date: October 12, 2006.

Accession Number: 20061016-0119.

Comment Date: 5 p.m. Eastern Time on Thursday, November 2, 2006.

Docket Numbers: ER06-1297-001.

Applicants: Fox Energy Company LLC.

Description: Fox Energy Company LLC submits First Revised Sheet 1 to its FERC Rate Schedule 2, effective October 11, 2006 under ER06-1297.

Filed Date: October 13, 2006.

Accession Number: 20061016-0117.

Comment Date: 5 p.m. Eastern Time on Friday, November 3, 2006.

Docket Numbers: ER06-1401-001.

Applicants: PJM Interconnection, LLC.

Description: PJM Interconnection, LLC submits a substitute Allegheny Ridge Interim ISA, designated as Substitute Original Service Agreement 1541.

Filed Date: October 13, 2006.

Accession Number: 20061016-0115.

Comment Date: 5 p.m. Eastern Time on Friday, November 3, 2006.

Docket Numbers: ER06-1434-001.

Applicants: ISO New England Inc.

Description: ISO New England Inc submits an Amended Non-Conforming Market Participant Service Agreement with North America Power Partners, LLC.

Filed Date: October 13, 2006.

Accession Number: 20061016-0118.

Comment Date: 5 p.m. Eastern Time on Friday, November 3, 2006.

Docket Numbers: ER07-23-001.

Applicants: Arizona Public Service Company.

Description: Arizona Public Service Company submits corrected Original Sheet 58 to its FERC Tariff, Volume 5.

Filed Date: October 13, 2006.

Accession Number: 20061016-0116.

Comment Date: 5 p.m. Eastern Time on Friday, November 3, 2006.

Docket Numbers: ER07-32-000.

Applicants: Mid-Continent Area Power Pool.

Description: The Mid-Continent Area Power Pool submits revisions to Article 6 of its Restated Agreement, to be effective December 1, 2006.

Filed Date: October 6, 2006.

Accession Number: 20061016-0107.

Comment Date: 5 p.m. Eastern Time on Friday, October 27, 2006.

Docket Numbers: ER07-34-000.

Applicants: Plains End II, LLC.

Description: Plains End III, LLC submits a petition for order accepting market-based rate tariff for filing and granting waivers and blanket approvals and request for expedited action.

Filed Date: October 12, 2006.

Accession Number: 20061013-0081.

Comment Date: 5 p.m. Eastern Time on Thursday, November 2, 2006.

Docket Numbers: ER07-35-000.

Applicants: Southern California Edison Company.

Description: Southern California Edison Co submits revised rate sheets to the Interconnection Facilities Agreement & the Service Agreement for Wholesale Distribution Service between the City of Corona & SCE.

Filed Date: October 13, 2006.

Accession Number: 20061017-0035.

Comment Date: 5 p.m. Eastern Time on Friday, November 3, 2006.

Docket Numbers: ER06-36-000.

Applicants: Southern California Edison Company.

Description: Southern California Edison Co submits Second Service Sheet 19 et al as part of its Service Agreement 128 under its Wholesale Distribution Access Tariff, FERC Electric Tariff, Revised Volume 5.

Filed Date: October 13, 2006.

Accession Number: 20061017-0034.

Comment Date: 5 p.m. Eastern Time on Friday, November 3, 2006.

Docket Numbers: ER07-37-000.

Applicants: Carolina Power & Light Company.

Description: Carolina Power & Light Co dba Progress Energy Carolinas, Inc (PEC) requests that FERC amend the Western Systems Power Pool Agreement to include PEC as a participant.

Filed Date: October 13, 2006.

Accession Number: 20061017-0033.

Comment Date: 5 p.m. Eastern Time on Friday, November 3, 2006.

Docket Numbers: ER07-38-000.

Applicants: Entergy Services Inc.

Description: Energy Services Inc, on behalf of Entergy Operations Inc requests FERC to review and authorize the cost allocation methods included in services agreements used for the sale of non-power goods and services.

Filed Date: October 13, 2006.

Accession Number: 20061017-0032.

Comment Date: 5 p.m. Eastern Time on Friday, November 3, 2006.

Take notice that the Commission received the following foreign utility company status filings:

Docket Numbers: FC07-3-000.

Applicants: Tynagh Energy Limited.

Description: Tynagh Energy Limited submits a Notice of Self-Certification of Foreign Utility Company Status.

Filed Date: October 10, 2006.

Accession Number: 20061016-0112.

Comment Date: 5 p.m. Eastern Time on Tuesday, October 31, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-17784 Filed 10-23-06; 8:45 am]

BILLING CODE 6717-01-P